DEPARTMENT OF HEALTH AND HUMAN SERVICES

Administration for Children and Families

Proposed Information Collection Activity; Sexual Risk Avoidance Education Program (SRAE) Performance Analysis Study (PAS) (New Collection)

AGENCY: Office of Planning, Research and Evaluation; Administration for Children and Families; HHS.

ACTION: Request for Public Comment.

SUMMARY: The Office of Planning, Research, and Evaluation and the Family and Youth Services Bureau in the Administration for Children and Families (ACF) propose data collection activity as part of the Sexual Risk Avoidance Education (SRAE) Program Performance Analysis Study (PAS). The goal of the study is to collect, analyze and report on performance measures data for the Sexual Risk Avoidance Education Program.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

SUPPLEMENTARY INFORMATION:

Description: The purpose of the SRAE program is to educate youth on “how to voluntarily refrain from non-marital sexual activity and prevent other youth risk behaviors.” Data will be used to determine if the SRAE grantees are meeting performance benchmarks related to their program's mission and priorities.

Respondents: Departmental (DSRAE), State (SSRAE), and Competitive (CSRAE) grantees, their subawardees, and program participants.

Annual Burden Estimates
Instrument | Total number of respondents | Annual number of respondents | Number of responses per respondents | Average burden hours per response | Annual burden hours
(1) Participant Entry Survey
DSRAE participants | 138,415 | 46,138 | 1 | .13 | 5,998
SSRAE participants | 947,183 | 315,728 | 1 | .13 | 41,045
CSRAE participants | 24,870 | 8,290 | 1 | .13 | 1,078
(2) Participant Exit Survey
DSRAE participants | 138,415 | 46,138 | 1 | .25 | 11,535
SSRAE participants | 947,183 | 315,728 | 1 | .25 | 78,932
CSRAE participants | 24,870 | 8,290 | 1 | .25 | 2,073
(3) Performance reporting data entry form—Grantees
DSRAE grantees | 90 | 30 | 2 | 16 | 960
SSRAE grantees | 117 | 39 | 2 | 16 | 1,248
CSRAE grantees | 54 | 18 | 2 | 16 | 288
(4) Performance reporting data entry form—Sub awardees
DSRAE subawardees | 2,076 | 692 | 2 | 13 | 17,992
SSRAE subawardees | 2,700 | 900 | 2 | 13 | 23,400
CSRAE subawardees | 312 | 104 | 2 | 13 | 2,704

Estimated Total Annual Burden Hours: 187,253.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C 1310.

Mary B. Jones,
ACF/OPRE Certifying Officer.

[FR Doc. 2019-00413 Filed 1-30-19; 8:45 am]

BILLING CODE 4184-83-P